SECURITIES AND EXCHANGE COMMISSION

Submission for OMB Review; Comment Request

Upon written request, copies available from: Securities and Exchange Commission, Office of Filings and Information Services, Washington, DC 20549.

Extension: Regulation A (Forms 1-A and 2-A), OMB Control No. 3235-0286, SEC File No. 270-110.

Notice is hereby given that, pursuant to the Paperwork Reduction Act of 1995 (44 U.S.C. 3501 et seq.) the Securities and Exchange Commission (“Commission”) has submitted to the Office of Management and Budget request for extension of the previously approved collection of information discussed below.

Regulation A (OMB Control No. 3235-0286; SEC File No. 270-110) provides an exemption from registration under the Securities Act for certain limited securities offerings by issuers who do not otherwise file reports with the Commission. Form 1-A is an offering statement filed under Regulation A. Form 2-A is used to report sales and use of proceeds in Regulation A offerings. All information is provided to the public for review. The information required is filed on occasion and is mandatory. Approximately 165 issuers annually file Forms 1-A and 2-A. It is estimated that Form 1-A takes 608 hours to prepare, Form 2-A takes 12 hours to prepare and Regulation A takes one administrative hour to review for a total of 621 hours per response. The total burden hours are 102,465. It is estimated that 75% of the 102,465 total burden hours (76,849 burden hours) would be prepared by the company.

An agency may conduct or sponsor, and a person is not required to respond to, a collection of information unless it displays a currently valid control number.

Written comments regarding the above information should be directed to the following persons: (i) Desk Officer for the Securities and Exchange Commission: David_Rostker@omb.eop.gov; and (ii) R. Corey Booth, Director/Chief Information Officer, Office of Information Technology, Securities and Exchange Commission, 450 Fifth Street, NW., Washington, DC 20549. Comments must be submitted to OMB within 30 days of this notice.

Dated: September 13, 2004.
Margaret H. McFarland,
Deputy Secretary.

[FR Doc. E4-2262 Filed 9-20-04; 8:45 am]

BILLING CODE 8010-01-P